DEPARTMENT OF TRANSPORTATION

Federal Aviation Administration

14 CFR Part 39

[Docket No. 2002-NM-209-AD; Amendment 39-13758; AD 2004-16-02]

RIN 2120-AA64

Airworthiness Directives; Short Brothers Model SD3 Series Airplanes

AGENCY: Federal Aviation Administration, DOT.

ACTION: Final rule.

SUMMARY: This amendment adopts a new airworthiness directive (AD), applicable to all Short Brothers Model SD3 series airplanes, that requires installing a new warning annunciator light on the central warning panel and revising the Normal Procedures Section of the Aircraft Flight Manual to provide the flightcrew with procedures related to the new light. This action is necessary to prevent an engine shut-down in icing conditions, which could result in loss of control of the airplane and consequent injury to flightcrew and passengers. This action is intended to address the identified unsafe condition.

DATES: Effective September 14, 2004.

The incorporation by reference of certain publications listed in the regulations is approved by the Director of the Federal Register as of September 14, 2004.

ADDRESSES: The service information referenced in this AD may be obtained from Short Brothers, Airworthiness & Engineering Quality, PO Box 241, Airport Road, Belfast BT3 9DZ, Northern Ireland. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all Short Brothers Model SD3 series airplanes was published in the Federal Register on June 2, 2004 (69 FR 31049). That action proposed to require installing a new warning annunciator light on the central warning panel and revising the Normal Procedures Section of the Aircraft Flight Manual to provide the flightcrew with procedures related to the new light.

Comments

Interested persons have been afforded an opportunity to participate in the making of this amendment. No comments were submitted in response to the proposal or the FAA's determination of the cost to the public.

Conclusion

The FAA has determined that air safety and the public interest require the adoption of the rule as proposed.

Cost Impact

The FAA estimates that 125 airplanes of U.S. registry will be affected by this AD, that it will take approximately 30 work hours per airplane to accomplish the required actions, and that the average labor rate is $65 per work hour. Required parts will cost approximately $4,800 per airplane. Based on these figures, the cost impact of the AD on U.S. operators is estimated to be $843,750, or $6,750 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-16-02 Short Brothers PLC: Amendment 39-13758. Docket 2002-NM-209-AD.

Applicability: All Model SD3 series airplanes, certificated in any category.

Compliance: Required as indicated, unless accomplished previously.

To prevent an engine shut down in icing conditions, which could result in loss of control of the airplane and consequent injury to flight crew and passengers, accomplish the following:

Installation and Aircraft Flight Manual (AFM) Revision

(a) Within five months after the effective date of this AD, do the actions specified in paragraphs (a)(1) and (a)(2) of this AD.

(1) Install a new warning annunciator light on the central warning panel in accordance with the Accomplishment Instructions of the applicable Shorts service bulletins listed in Table 1 of this AD; and

(2) Revise the Normal Procedures Section of the AFM by inserting a copy of the applicable pages of the Shorts AFM document listed in Table 1 of this AD, per the Accomplishment Instructions of the applicable Shorts service bulletin listed in Table 1 of this AD.

Table 1.—Shorts Service Bulletins and AFMs
For model | Shorts service bulletin | Shorts AFM document number
SD3-SHERPA series airplanes | SD3 Sherpa-31-2, Revision 1, dated October 29, 2002 | Doc.No.SB.5.2, P/5.
SD3-60 SHERPA series airplanes | SD360 Sherpa-31-1, Revision 1, dated October 29, 2002 | Doc.No.SB.6.2, P/3.
SD3-30 series airplanes | SD330-31-15, Revision 1, dated October 29, 2002 | Doc.No.SBH.3.3, P/20 or Doc.No.SBH.3.6, P/18, as applicable.
SD3-60 series airplanes | SD360-31-06, Revision 1, dated October 29, 2002 | Doc.No.SB.4.8, P/19 or Doc.No.SB.4.6, P/20, as applicable.

Alternative Methods of Compliance

(b) In accordance with 14 CFR 39.19, the Manager, International Branch, ANM-116, FAA, is authorized to approve alternative methods of compliance (AMOCs) for this AD.

Incorporation by Reference

(c) The actions shall be done in accordance with the Shorts service bulletin listed in Table 2 of this AD, as applicable.

Table 2.—Shorts Service Bulletins Incorporated by Reference
Service bulletin | Revision | Date
SD3 Sherpa-31-2 | 1 | October 29, 2002.
SD360 Sherpa-31-1 | 1 | October 29, 2002.
SD330-31-15 | 1 | October 29, 2002.
SD360-31-06 | 1 | October 29, 2002.

This incorporation by reference was approved by the Director of the Federal Register in accordance with 5 U.S.C. 552(a) and 1 CFR part 51. Copies may be obtained from Short Brothers, Airworthiness & Engineering Quality, PO Box 241, Airport Road, Belfast BT3 9DZ, Northern Ireland. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in British airworthiness directives 002-06-2002, 003-06-2002, 004-06-2002, and 005-06-2002.

Effective Date

(d) This amendment becomes effective on September 14, 2004.

Issued in Renton, Washington, on July 27, 2004.
Kyle L. Olsen,
Acting Manager, Transport Airplane Directorate, Aircraft Certification Service.

[FR Doc. 04-17757 Filed 8-9-04; 8:45 am]

BILLING CODE 4910-13-P